FEDERAL MARITIME COMMISSION

[Docket No. 14-11]

Petition of LCL Logistix (India) Pvt. Ltd dba LCL Lines (“LCL”) for a Declaratory Order; Notice of Filing of Petition

Notice is hereby given that LCL Logistix(India) Pvt. Ltd dba LCL Lines (“LCL”) has petitioned the Federal Maritime Commission (“Commission”) pursuant to 46 CFR 502.68 (sic), for a declaratory order “to remove uncertainty and terminate a controversy in regard to the justness and reasonableness of the demurrage practices of Mediterranean Shipping Company (“MSC”).” (Petitioner's citation to 46 CFR 502.68 appears to be a reference to the Commission's rule concerning Declaratory Orders and Fees, which rule was moved and is now found at 46 CFR 502.75, see 78 FR 45071, July 26, 2013.) Petitioner, a licensed non-vessel-operating common carrier, asks the Commission to declare “whether it is a reasonable practice for MSC to wait to assert a claim for demurrage on containers for more than three years after the parties with an interest in the goods abandoned the cargo in those containers and authorized MSC to dispose of it, when MSC's delay resulted in the accrual of demurrage charges exceeding $230,000.00, which is many times greater than the value of the containers themselves.”

Mediterranean Shipping Company is named in the petition and is requested, pursuant to 46 CFR 502.75(f)(2), to submit views or arguments in reply to the Petition no later than September 12, 2014. Replies shall consist of an original and five (5) copies, be directed to the Secretary, Federal Maritime Commission, 800 North Capitol Street NW., Washington, DC 20573-0001, and be served on Petitioners' counsel, David P. Street, GKG Law, P.C., 1054 Thirty-first Street NW., Washington, DC 20007. A copy of the reply shall be submitted in PDF by email to secretary@fmc.gov. The Petition in its entirety can be found on the Commission's Web site at http://www.fmc.gov/14-11.

Karen V. Gregory,
Secretary.

[FR Doc. 2014-19722 Filed 8-19-14; 8:45 am]

BILLING CODE 6730-01-P